DEPARTMENT OF TRANSPORTATION

Federal Aviation Administration

14 CFR Part 71

[Docket No. FAA-2013-0954; Airspace Docket No. 13-AGL-35]

Amendment of Class D Airspace; St. Paul, MN

AGENCY: Federal Aviation Administration (FAA), DOT.

ACTION: Final rule, correction.

SUMMARY: This action amends a typographical error in the geographic coordinates of South St. Paul Municipal Airport-Richard E. Fleming Field in a final rule technical amendment published in the Federal Register of March 4, 2014, that amends Class D airspace in the St. Paul, MN, area.

DATES: Effective date: 0901 UTC, May 29, 2014. The Director of the Federal Register approves this incorporation by reference action under 1 CFR Part 51, subject to the annual revision of FAA Order 7400.9 and publication of conforming amendments.

FOR FURTHER INFORMATION CONTACT: Scott Enander, Central Service Center, Operations Support Group, Federal Aviation Administration, Southwest Region, 2601 Meacham Blvd., Fort Worth, TX 76137; telephone 817-321-7716.

SUPPLEMENTARY INFORMATION:

History

On March 4, 2014, a final rule technical amendment was published in the Federal Register amending Class D airspace in St. Paul, MN (79 FR 12050, Docket No. FAA-2013-0954). Subsequent to publication, the FAA found a typographical error in the geographic coordinates for South St. Paul Municipal Airport-Richard E. Fleming Field. This action corrects that error.

Final Rule Correction

Accordingly, pursuant to the authority delegated to me, in the Federal Register of March 4, 2014 (79 FR 12050) FR Doc. 2014-04447, the geographic coordinates in the regulatory text on page 12051, column 2, line 9, is corrected as follows:

§ 71.1 [Amended]

AGL MN D St. Paul, MN [Corrected]

Remove (Lat. 44°51″2605′ N.,) and add in its place (Lat. 44°51′26″ N., 93°01′58″ W.)

Issued in Fort Worth, Texas, on April 11, 2014.
Kent M. Wheeler,
Manager, Operations Support Group, ATO Central Service Center.

[FR Doc. 2014-09881 Filed 5-7-14; 8:45 am]

BILLING CODE 4910-13-P